DEPARTMENT OF TRANSPORTATION

Federal Railroad Administration

[Docket No. FRA-2023-0002-N-35]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On September 25, 2023, FRA published a notice providing a 60-day period for public comment on the ICR. FRA received no comments in response to the notice.

DATES: Interested persons are invited to submit comments on or before January 8, 2024.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285; or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On September 25, 2023, FRA published a 60-day notice in the Federal Register soliciting public comment on the ICR for which it is now seeking OMB approval. See 88 FR 65765. FRA has received no comments related to the proposed collection of information.

Before OMB decides whether to approve this proposed collection of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Rail Integrity and Track Safety Standards.¹

¹ Title corrected to reflect the full name in OMB's database.

OMB Control Number: 2130-0010.

Abstract: The Track Safety Standards regulations under 49 CFR part 213 prescribes minimum safety requirements for railroad track that is part of the general railroad system of transportation. FRA uses this information collection to ensure and enhance rail safety by monitoring complete compliance with all regulatory requirements. While the requirements prescribed in this part generally apply to specific track conditions existing in isolation, a combination of track conditions, none of which individually amounts to a deviation from the requirements in this part, may require remedial action to provide safe operations over that track. Qualified persons inspect track and take action to allow safe passage of trains and ensure compliance with the prescribed standards.

In 2020, FRA published a final rule ² revising the minimum safety requirements for railroad track. The changes included allowing inspection of rail using continuous rail testing; allowing the use of flange-bearing frogs in crossing diamonds; relaxing the guard check gage limits on heavy-point frogs used in Class 5 track; removing an inspection-method exception for high density commuter lines; and other miscellaneous revisions.

² 85 FR 63362, Oct. 7, 2020.

In addition, in 2011, FRA promulgated a rule ³ mandating specific requirements for effective concrete crossties, for rail fastening systems connected to concrete crossties, and for automated inspections of track constructed with concrete crossties. These requirements supplement visual inspections by Class I and Class II railroads, intercity passenger railroads, and commuter railroads.⁴

³ 76 FR 18073, Apr. 1, 2011.

⁴ To more effectively manage FRA's ICRs, the concrete crosstie ICR, OMB Control No. 2130-0592, has been combined with that of track safety standards, OMB Control No. 2130-0010, in this renewal cycle.

Type of Request: Revision of a currently approved collection.⁵

⁵ The 60-day notice incorrectly categorized the type of request as an “Extension without change (with changes in estimates) of a currently approved collection.” Since OMB Control Nos. 2130-0010 and 2130-0592 are combined in this ICR, the type of request, corrected in this 30-day notice, is a “Revision of a currently approved collection.” (OMB Control No. 2130-0592 will be discontinued once OMB Control No. 2130-010 is cleared.)

Affected Public: Businesses (railroads).

Form(s):

Respondent Universe: 784.

Frequency of Submission: On occasion.

Total Estimated Annual Responses: 1,432,181.

Total Estimated Annual Burden: 234,294 hours.

Total Estimated Annual Burden Hour Dollar Cost Equivalent: $20,131,107.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-26956 Filed 12-7-23; 8:45 am]

BILLING CODE 4910-06-P